DEPARTMENT OF COMMERCE

International Trade Administration

[A-570-970]

Multilayered Wood Flooring From the People's Republic of China: Final Results of Antidumping Duty Administrative Review and Final Determination of No Shipments; 2016-2017

AGENCY: Enforcement and Compliance, International Trade Administration, Department of Commerce.

SUMMARY: The Department of Commerce (Commerce) determines that Jiangsu Senmao Bamboo and Wood Industry Co., Ltd. (Jiangsu Senmao) has not made sales of multilayered wood flooring (wood flooring) from the People's Republic of China (China) at prices below normal value during the period of review (POR) December 1, 2016 through November 30, 2017. We also determine that the use of facts otherwise available is warranted with respect to the Sino-Maple (Jiangsu) Co., Ltd. (Sino-Maple) and the China-wide entity.

DATES: Applicable August 5, 2019.

FOR FURTHER INFORMATION CONTACT: Sergio Balbontin or Michael Bowen, AD/CVD Operations, Office VIII, Enforcement and Compliance, International Trade Administration, U.S. Department of Commerce, 1401 Constitution Avenue NW, Washington, DC 20230; telephone: 202-482-6478 and 202-482-0768, respectively.

SUPPLEMENTARY INFORMATION:

Background

Commerce published the Preliminary Results of the administrative review in the Federal Register on December 21, 2018.¹ For the events that occurred since Commerce published the Preliminary Results, see the Issues and Decision Memorandum.² Commerce conducted this administrative review in accordance with section 751 of the Tariff Act of 1930, as amended (the Act).

¹ See Multilayered Wood Flooring from the People's Republic of China: Preliminary Results of the Antidumping Duty Administrative Review; 2016-2017, 83 FR 65630 (December 21, 2018) (Preliminary Results), and accompanying Memorandum, “Decision Memorandum for the Preliminary Results of Antidumping Duty Administrative Review: Multilayered Wood Flooring from the People's Republic of China; 2016-2017”.

² See Memorandum, “Issues and Decision Memorandum: Multilayered Wood Flooring from the People's Republic of China; 2016-2017” (Issues and Decision Memorandum), dated concurrently with and hereby adopted by the notice.

Commerce exercised its discretion to toll all deadlines affected by the partial federal government closure from December 22, 2018, through the resumption of operations on January 29, 2019.³ The revised deadline for the final results was May 30, 2019. On May 24, 2019, we extended this deadline to July 29, 2019.⁴

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ See Memorandum, “Multilayered Wood Flooring from the People's Republic of China: Extension of Deadline for Final Results of Antidumping Duty Administrative Review; 2016-2017,” dated May 24, 2019.

Scope of the Order ⁵

⁵ See Multilayered Wood Flooring from the People's Republic of China: Notice of Amended Final Affirmative Determination of Sales at Less than Fair Value and Antidumping Duty Order, 76 FR 76690 (December 8, 2011), as amended in Multilayered Wood Flooring from the People's Republic of China, 77 FR 5484 (February 3, 2012) (collectively, Order).

The product covered by the Order is wood flooring from China. A full description of the scope of the order is contained in the Issues and Decision Memorandum.

Analysis of Comments Received

All issues raised in the parties' briefs are addressed in the Issues and Decision Memorandum. A list of these issues is attached to this notice.⁶ The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly at http://enforcement.trade.gov/frn/index.html. The signed Issues and Decision Memorandum and electronic version of the Issues and Decision Memorandum are identical in content.

⁶ See Appendix I.

Changes From the Preliminary Results

Based on our analysis of the comments received, Commerce made certain revisions to the rates assigned to Sino-Maple, the China-wide entity, and the non-examined, separate rate respondents. The Issues and Decision Memorandum contains descriptions of these revisions.

Final Determination of No Shipments

In the Preliminary Results, Commerce determined that certain companies did not have shipments of subject merchandise during the POR. Although we received no information to contradict our preliminary determination with respect to those companies, based on information received since the Preliminary Results, we determine that two additional companies, Jiangsu Keri Wood Co., Ltd. and Dalian Guhua Wooden Product Co. Ltd., did not have shipments during the POR.⁷ Therefore, for these companies (listed in Appendix II), we will issue appropriate instructions that are consistent with our “automatic assessment” clarification.⁸

⁷ See the Issues and Decision Memorandum at Comments 9 and 14.

⁸ See Non-Market Economy Antidumping Proceedings: Assessment of Antidumping Duties, 76 FR 65694 (October 24, 2011) (Assessment Notice); see also “Assessment Rates” section below.

Separate Rates

In the Preliminary Results, we determined that Jiangsu Senmao, Sino-Maple, and several additional companies who were not selected for individual review demonstrated their eligibility for separate rates, and we continue to do so in these final results. In addition, we determine that Guangdong Yihua Timber Industry Co., Ltd. is eligible for a separate rate.⁹

⁹ See the Issues and Decision Memorandum at Comment 6.

Rate for Non-Examined Separate Rate Respondents

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available} (FA).” Accordingly, Commerce's usual practice in determining the rate for separate-rate respondents not selected for individual examination, has been to average the weighted-average dumping margins for the selected companies, excluding rates that are zero, de minimis, or based entirely on AFA.¹⁰ However, when the weighted-average dumping margins established for all individually investigated respondents are zero, de minimis, or based entirely on facts available, section 735(c)(5)(B) of the Act permits Commerce to “use any reasonable method to establish the estimated all-others rate for exporters and producers not individually investigated, including averaging the estimated weighted average dumping margins determined for the exporters and producers individually investigated.”

¹⁰ See Longkou Haimeng Mach. Co. v. United States, 581 F. Supp. 2d 1344, 1357-60 (CIT 2008) (affirming Commerce's determination to assign a 4.22 percent dumping margin to the separate-rate respondents in a segment where the three mandatory respondents received dumping margins of 4.22 percent, 0.03 percent, and zero percent, respectively); see also Certain Kitchen Appliance Shelving and Racks from the People's Republic of China: Final Determination of Sales at Less Than Fair Value, 74 FR 36656, 36660 (July 24, 2009).

Furthermore, Congress, in the SAA, stated that when “the dumping margins for all of the exporters and producers that are individually investigated are determined entirely on the basis of the facts available or are zero or de minimis . . . {t}he expected method in such cases will be to weight-average the zero and the de minimis margins and margins determined pursuant to the facts available.” ¹¹ For the final results of this review, we continue to determine the estimated dumping margin for each of the individually examined respondents to be zero or based entirely on AFA. Thus, we assigned to all eligible non-selected respondents the simple average of the separate rates assigned to Jiangsu Senmao and Sino-Maple.¹²

¹¹ See Statement of Administrative Action (SAA), accompanying the Uruguay Round Agreements Act, H.R. Doc. No. 103-316 at 873 (1994), reprinted in 1994 U.S.C.C.A.N. 4040, 4200.

¹² See Albemarle Corp. & Subsidiaries v. United States, 821 F.3d 1345 (Fed. Cir. 2016); see also the Issues and Decision Memorandum at Comment 3 for further discussion.

Final Results

For the companies subject to this review, including the China-wide entity and companies which established their eligibility for a separate rate, Commerce determines that the following weighted-average dumping margins exist for the period December 1, 2016 through November 30, 2017:

Exporters | Weighted average dumping margin (percent)
The China-Wide Entity | 85.13
Sino-Maple (Jiangsu) Co., Ltd. | 85.13
Jiangsu Senmao Bamboo and Wood Industry Co., Ltd. | 0.00
A&W (Shanghai) Woods Co., Ltd. | 42.57
Benxi Flooring Factory (General Partnership) | 42.57
Benxi Wood Company | 42.57
Dalian Dajen Wood Co., Ltd. | 42.57
Dalian Huilong Wooden Products Co., Ltd. | 42.57
Dalian Jiahong Wood Industry Co., Ltd. | 42.57
Dalian Kemian Wood Industry Co., Ltd. | 42.57
Dalian Qianqiu Wooden Product Co., Ltd. | 42.57
Dalian T-Boom Wood Products Co., Ltd. | 42.57
Dongtai Fuan Universal Dynamics, LLC | 42.57
Dunhua City Dexin Wood Industry Co., Ltd. | 42.57
Dunhua City Hongyuan Wood Industry Co., Ltd. | 42.57
DunHua SenTai Wood Co., Ltd. | 42.57
Dunhua Shengda Wood Industry Co., Ltd. | 42.57
Fusong Jinlong Wooden Group Co., Ltd. | 42.57
Fusong Qianqiu Wooden Product Co., Ltd. | 42.57
Guangzhou Homebon Timber Manufacturing Co., Ltd. | 42.57
Guangzhou Panyu Kangda Board Co., Ltd. | 42.57
Guangzhou Panyu Southern Star Co., Ltd. | 42.57
HaiLin LinJing Wooden Products Co., Ltd. | 42.57
Hangzhou Hanje Tec Co., Ltd. | 42.57
Hunchun Xingjia Wooden Flooring Inc. | 42.57
Huzhou Chenghang Wood Co., Ltd. | 42.57
Huzhou Fulinmen Imp. & Exp. Co., Ltd. | 42.57
Huzhou Sunergy World Trade Co., Ltd. | 42.57
Innomaster Home (Zhongshan) Co., Ltd. | 42.57
Jiangsu Guyu International Trading Co., Ltd. | 42.57
Jiangsu Mingle Flooring Co., Ltd. | 42.57
Jiangsu Simba Flooring Co., Ltd. | 42.57
Jiashan HuiJiaLe Decoration Material Co., Ltd. | 42.57
Jiaxing Hengtong Wood Co., Ltd. | 42.57
Jilin Xinyuan Wooden Industry Co., Ltd. | 42.57
Kember Flooring, Inc. | 42.57
Kemian Wood Industry (Kunshan) Co., Ltd. | 42.57
Linyi Anying Wood Co., Ltd. | 42.57
Linyi Youyou Wood Co., Ltd. | 42.57
Metropolitan Hardwood Floors, Inc. | 42.57
Mudanjiang Bosen Wood Industry Co., Ltd. | 42.57
Nakahiro Jyou Sei Furniture (Dalian) Co., Ltd. | 42.57
Pinge Timber Manufacturing (Zhejiang) Co., Ltd. | 42.57
Power Dekor Group Co., Ltd. | 42.57
Shandong Longteng Wood Co., Ltd. | 42.57
Shanghai Lairunde Wood Co., Ltd. | 42.57
Shanghaifloor Timber (Shanghai) Co., Ltd. | 42.57
Shenyang Haobainian Wooden Co., Ltd. | 42.57
Shenzhenshi Huanwei Woods Co., Ltd. | 42.57
Suzhou Dongda Wood Co., Ltd. | 42.57
Tongxiang Jisheng Import and Export Co., Ltd. | 42.57
Xuzhou Antop International Trade Co., Ltd. | 42.57
Xuzhou Shenghe Wood Co., Ltd. | 42.57
Yekalon Industry Inc. | 42.57
Yihua Lifestyle Technology Co., Ltd. (formerly known as Guangdong Yihua Timber Industry Co., Ltd.) | 42.57
Zhejiang Biyork Wood Co., Ltd. | 42.57
Zhejiang Dadongwu Green Home Wood Co., Ltd. | 42.57
Zhejiang Fudeli Timber Industry Co., Ltd. | 42.57
Zhejiang Fuerjia Wooden Co., Ltd. | 42.57
Zhejiang Longsen Lumbering Co., Ltd. | 42.57
Zhejiang Shuimojiangnan New Material Technology Co., Ltd. | 42.57

Assessment Rates

Pursuant to section 751(a)(2)(C) of the Act and 19 CFR 351.212(b), Commerce will determine, and U.S. Customs and Border Protection (CBP) shall assess, antidumping duties on all appropriate entries of subject merchandise in accordance with the final results of this review. We intend to issue assessment instructions to CBP 15 days after the date of publication of these final results of review.

For Jiangsu Senmao, which has a weighted-average dumping margin of zero, we will instruct CBP to liquidate the appropriate entries without regard to antidumping duties. For entries that were not reported in the U.S. sales databases submitted by the company individually examined during this review, Commerce will instruct CBP to liquidate such entries at the China-wide rate. As the China-wide entity and Sino-Maple's estimated dumping margins continue to be based on AFA, we will instruct CBP to apply an ad valorem assessment rate of 85.13 percent to all entries of subject merchandise during the POR that were produced and/or exported by those entities.

For the respondents which were not selected for individual examination in this review and which qualified for a separate rate, the assessment rate will be equal to 42.57 percent, the simple average of the separate rates we assigned to Jiangsu Senmao and Sino-Maple.

Consistent with Commerce's assessment practice in non-market economy cases, for the companies which Commerce determined had no shipments of the subject merchandise, any suspended entries made under those exporters' case numbers (i.e., at the exporters' rates) will be liquidated at the China-wide rate.¹³

¹³ For a full discussion of this practice, see Assessment Notice.

Cash Deposit Requirements

The following cash deposit requirements will be effective upon publication of these final results of administrative review for shipments of the subject merchandise from China entered, or withdrawn from warehouse, for consumption on or after the publication date, as provided by sections 751(a)(2)(C) of the Act: (1) For companies that have a separate rate, the cash deposit rate will be that established in these final results (except, if the rate is zero or de minimis, then no cash deposit will be required); (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These cash deposit requirements, effective upon publication of these final results, shall remain in effect until further notice.

Reimbursement of Duties

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a sanctionable violation.

We are issuing and publishing these final results in accordance with sections 751(a)(1) and 777(i)(1) of the Act and 19 CFR 351.221(b)(5).

Dated: July 29, 2019.
Christian Marsh,
Deputy Assistant Secretary for Enforcement and Compliance.

Appendix I—List of Topics Discussed in the Issues and Decision Memorandum

I. Summary

II. Background

III. Scope of the Order

IV. Changes From the Preliminary Results

V. Discussion of the Issues

Comment 1: Application of Adverse Facts Available (AFA) to Sino-Maple

Comment 2: The AFA Rate

Comment 3: The Separate Rate

Comment 4: Intermediate Input Methodology

Comment 5: Deduction of Irrecoverable Value-Added Tax (VAT)

Comment 6: Yihua Timber's Separate Rate Eligibility

Comment 7: Initiation of Jiaxing Brilliant

Comment 8: Spelling Variations of Zhejiang Dadongwu's Name

Comment 9: Keri Wood's No Shipment Claim

Comment 10: Rescission of Review With Respect to Baroque Timber

Comment 11: Jilin Forest's Separate Rate Eligibility

Comment 12: Scholar Home's Separate Rate Eligibility

Comment 13: Jiechen's No Shipment Claim

Comment 14: Certain Separate Rate Applicants' Eligibility

Comment 15: Alleged “Fraudulently Declared” Entries

Comment 16: Misuse of U.S. Customs and Border Protection (CBP) Case Numbers

Comment 17: China-Wide Entity Companies in the CBP Instructions

VI. Recommendation

Appendix II

No Shipments

Anhui Boya Bamboo & Wood Products Co., Ltd.

Anhui Longhua Bamboo Product Co., Ltd.

Changzhou Hawd Flooring Co., Ltd.

Chinafloors Timber (China) Co., Ltd.

Dalian Guhua Wooden Product Co., Ltd.

Dalian Huade Wood Product Co., Ltd.

Dalian Jaenmaken Wood Industry Co., Ltd.

Hangzhou Zhengtian Industrial Co., Ltd.

Hunchun Forest Wolf Wooden Industry Co., Ltd.

Jiafeng Wood (Suzhou) Co., Ltd.

Jiangsu Keri Wood Co., Ltd.

Jiangsu Yuhui International Trade Co., Ltd.

Jiashan On-Line Lumber Co., Ltd.

Karly Wood Product Limited

Kingman Floors Co., Ltd.

Linyi Bonn Flooring Manufacturing Co., Ltd.

Xiamen Yung De Ornament Co., Ltd.

Yingyi-Nature (Kunshan) Wood Industry Co., Ltd.

Zhejiang Shiyou Timber Co., Ltd.

Zhejiang Simite Wooden Co., Ltd.

China-Wide Entity

Anhui Suzhou Dongda Wood Co., Ltd.

Baishan Huafeng Wooden Product Co., Ltd.

Baiying Furniture Manufacturer Co., Ltd.

Changbai Mountain Development and Protection Zone Hongtu Wood Industrial Co., Ltd.

Cheng Hang Wood Co., Ltd.

Dalian Jiuyuan Wood Industry Co., Ltd.

Dalian Xinjinghua Wood Co., Ltd.

Dongtai Zhangshi Wood Industry Co., Ltd.

Dunhua City Wanrong Wood Industry Co., Ltd.

Fu Lik Timber (HK) Co., Ltd.

Fujian Wuyishan Werner Green Industry Co., Ltd.

GTP International Ltd.

Guangdong Fu Lin Timber Technology Limited

HaiLin XinCheng Wooden Products, Ltd.

Hangzhou Dazhuang Floor Co., Ltd. (dba Dasso Industrial Group Co., Ltd.)

Hangzhou Huahi Wood Industry Co., Ltd.

Henan Xingwangjia Technology Co., Ltd.

Hong Kong Easoon Wood Technology Co., Ltd.

Huaxin Jiasheng Wood Co., Ltd.

Huber Engineering Wood Corp.

Huzhou City Nanxun Guangda Wood Co., Ltd.

Huzhou Fuma Wood Co., Ltd.

Huzhou Muyun Wood Co., Ltd.

Jiangsu Kentier Wood Co., Ltd.

Jiashan Fengyun Timber Co., Ltd.

Jiaxing Brilliant Import & Export Co., Ltd.

Jilin Forest Industry Jinqiao Flooring Group Co., Ltd.

Kornbest Enterprises Limited

Kunming Alston (AST) Wood Products Co., Ltd.

Les Planchers Mercier, Inc.

Liaoning Daheng Timber Group Co., Ltd.

Nanjing Minglin Wooden Industry Co., Ltd.

Ningbo Tianyi Bamboo and Wood Products Co., Ltd.

Qingdao Barry Flooring Co., Ltd.

Scholar Home (Shanghai) New Material Co., Ltd.

Shandong Kaiyuan Wood Industry Co., Ltd.

Shandong Puli Trading Co., Ltd.

Shanghai Anxin (Weiguang) Timber Co., Ltd.

Shanghai Demeija Timber Co., Ltd.

Shanghai Eswell Timber Co., Ltd.

Shanghai Lizhong Wood Products Co., Ltd. (also known as The Lizhong Wood Industry Limited Company of Shanghai)

Shanghai New Sihe Wood Co., Ltd.

Shanghai Shenlin Corporation

Shenyang Sende Wood Co., Ltd.

Suzhou Anxin Weiguang Timber Co., Ltd.

Tak Wah Building Material (Suzhou) Co.

Tech Wood International Ltd.

Vicwood Industry (Suzhou) Co. Ltd.

Yixing Lion-King Timber Industry

Zhejiang AnJi Xinfeng Bamboo and Wood Industry Co., Ltd.

Zhejiang Desheng Wood Industry Co., Ltd.

Zhejiang Fuma Warm Technology Co., Ltd.

Zhejiang Haoyun Wooden Co., Ltd.

Zhejiang Jesonwood Co., Ltd.

Zhejiang Jiechen Wood Industry Co., Ltd.

Zhejiang Tianzhen Bamboo & Wood Development Co., Ltd.

Zhejiang Yongyu Bamboo Joint-Stock Co., Ltd.

[FR Doc. 2019-16664 Filed 8-2-19; 8:45 am]

BILLING CODE 3510-DS-P